ENVIRONMENTAL PROTECTION AGENCY

[FRL-8766-8]

Science Advisory Board Staff Office Notification of a Public Teleconference of the Science Advisory Board Environmental Economics Advisory Committee

AGENCY: Environmental Protection Agency (EPA).

ACTION: Notice.

SUMMARY: The EPA's Science Advisory Board (SAB) Staff Office is announcing a public teleconference of the SAB Environmental Economics Advisory Committee (EEAC) to discuss its draft Advisory on EPA's draft Guidelines for Preparing Economic Analyses.

DATES: The teleconference will be held from 2 p.m. to 5 p.m. (Eastern Time) on March 4, 2009.

FOR FURTHER INFORMATION CONTACT: Any member of the public wishing further information regarding the public teleconference and call-in numbers may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at http://www.epa.gov/sab.

SUPPLEMENTARY INFORMATION: Pursuant to the Federal Advisory Committee Act, Public Law 92-463, notice is hereby given that the SAB Environmental Economics Advisory Committee will hold a public teleconference to consider its draft Advisory on EPA's draft Guidelines for Preparing Economic Analyses as well as public comments. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The mission of the EEAC, an SAB Standing Committee, is to provide independent advice to the EPA Administrator, through the chartered SAB, regarding the use of economics in EPA's decision-making. As discussed in 73 FR 57621, EPA's National Center for Environmental Economics (NCEE) issued the Guidelines for Preparing Economic Analyses in September 2000 and updated those Guidelines in 2008. The SAB EEAC met on October 23—24, 2008 to discuss charge questions related to the updated Guidelines. On the March 4, 2009 teleconference, the SAB EEAC will discuss its draft Advisory as well as public comments submitted to the SAB EEAC.

Availability of Meeting Materials: All materials in support of this meeting, an agenda, public comments and a draft Advisory will be placed on the SAB Web site at http://yosemite.epa.gov/sab/sabproduct.nsf/fedrgstr_activites/Guidelines%20Review?OpenDocument prior to the meeting.

Procedures for Providing Public Input: Interested members of the public may submit relevant written or oral information for the SAB to consider during the advisory process.

Oral Statements: In general, individuals or groups requesting an oral presentation at a public teleconference will be limited to five minutes per speaker, with no more than a total of one hour for all speakers. Interested parties should contact Dr. Stallworth, DFO, at the contact information noted above, to be placed on the public speaker list for the March 4, 2009 teleconference. Written Statements: Written statements should be received in the SAB Staff Office by February 27, 2009 so that the information may be made available to the SAB for their consideration prior to this teleconference. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: January 15, 2009.
Anthony F. Maciorowski,
Deputy Director, EPA Science Advisory Board Staff Office.

[FR Doc. E9-1615 Filed 1-23-09; 8:45 am]

BILLING CODE 6560-50-P